DEPARTMENT OF HEALTH AND HUMAN SERVICES

National Institutes of Health

National Institute of Neurological Disorders and Stroke; Amended Notice of Meeting

Notice is hereby given of a change in the meeting of the National Institute of Neurological Disorders and Stroke Special Emphasis Panel, July 12, 2022, 3:00 p.m. to July 12, 2022, 5:00 p.m., National Institutes of Health, Neuroscience Center, 6001 Executive Boulevard, Rockville, MD 20852 which was published in the Federal Register on June 28, 2022, FR Doc. 2022-13778, 87 FR 38416.

This notice is being amended to change the date and time of this meeting from July 12, 2022, 3:00 p.m.-5:00 p.m. to July 27, 2022, 1:00 p.m.-3:00 p.m. The meeting is closed to the public.

Dated: July 15, 2022.
Melanie J. Pantoja,
Program Analyst, Office of Federal Advisory Committee Policy.

[FR Doc. 2022-15634 Filed 7-20-22; 8:45 am]

BILLING CODE 4140-01-P